DEPARTMENT OF THE INTERIOR

National Park Service

[NPS-WASO-NRNHL-DTS#-32306; PPWOCRADI0, PCU00RP14.R50000]

National Register of Historic Places; Notification of Pending Nominations and Related Actions

AGENCY: National Park Service, Interior.

ACTION: Notice.

SUMMARY: The National Park Service is soliciting electronic comments on the significance of properties nominated before July 10, 2021, for listing or related actions in the National Register of Historic Places.

DATES: Comments should be submitted electronically by August 4, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 10, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ALASKA

Bristol Bay Borough

APA's Diamond NN Cannery, 101 Cannery Rd., South Naknek, SG100006826

Fairbanks North Star Borough

Gould Cabin, 105 Dunkel St., Fairbanks, SG100006828

Lake and Peninsula Borough

Oinuyang, Address Restricted, Igiugig vicinity, SG100006827

Matanuska-Susitna Borough

High Ridge, 9721 East Hilscher Hwy., Palmer, SG100006829

Yukon-Koyukuk Borough

Alaska Road Commission Shelter Cabin-Fritz's, (Iditarod Trail MPS), North side of Hunter Trail, approx. 34 mi. from Ophir, Ophir vicinity, MP100006832

CALIFORNIA

Los Angeles County

Pasadena Avenue Historic District, Roughly bounded by South Pasadena Ave., Arlington Dr., Avoca Ave., Columbia St., West Glenarm St., Hurlbut St., Madeline Dr., West State St. and Wigmore Dr., Pasadena, SG100006821

Pasadena Avenue Historic District Roughly bounded by South Pasadena Ave., Arlington Dr., Avoca Ave., Columbia St., West Glenarm St., Hurlbut St., Madeline Dr., West State St. and Wigmore Dr., South Pasadena, SG100006821

CONNECTICUT

Hartford County

Aetna Diner, 267 Farmington Ave., Hartford, SG100006804

MARYLAND

Frederick County

Beatty-Cramer House, Address Restricted, Frederick vicinity, SG100006825

NORTH CAROLINA

Brunswick County

John N. Smith Cemetery, 225 East Leonard St., Southport, SG100006808

Davidson County

St. Stephen United Methodist Church, 102 East First St., Lexington, SG100006812

Halifax County

Enfield Historic District, Roughly bounded by North Church, West Bryant, North Railroad, Liberty, North McDaniel, Whitaker, SW Railroad, Tucker and McGwigen Sts., East and West Burnette Aves., Enfield, SG100006809

Lee County

Downtown Sanford Historic District (Boundary Increase and Decrease), Roughly bounded by South Horner Blvd., Cole St., Maple Ave., South and North First Sts., Norfolk-Southern Railway tracks, Charlotte Ave., McIver St., North Moore St., Gordon St., Sanford, BC100006819

Wake County

Graves-Fields House (Oberlin, North Carolina MPS), 814 Oberlin Rd., Raleigh, MP100006810

Zebulon Historic District, Roughly bounded by North Arendell and East Gannon Aves., North Gill, East Horton, West Judd, East and West Sycamore, West Vance, North Wakefield, and North Whitley Sts., Rotary Dr., and the former Raleigh and Pamlico Sound Railroad tracks, Zebulon, SG100006811

OHIO

Wayne County

Schantz Organ Company, 626 South Walnut St., Orrville, SG100006818

VIRGINIA

Brunswick County

Dromgoole House-Canaan, 2578 Christanna Hwy., Valentines vicinity, SG100006813

Loudoun County

Hough, Bernard, House, 15563 Hillsboro Rd., Hillsboro vicinity, SG100006815

Pulaski County

Claremont Elementary School, 800 Ridge Ave., Pulaski, SG100006822

Warren County

Browntown Historic District, Portions of Bentonville, Browntown, Fetchett, and Smith Run Rds., Gooney Manor Alley, Gooney Manor Loop, Smelser Ln., Browntown, SG100006823

WASHINGTON

Chelan County

Burke-Hill Apartments, 119 South Okanogan Ave., Wenatchee, SG100006805

Whatcom County

Woodstock Farm, 1200 Chuckanut Dr., Bellingham, SG100006806

Whitman County

Whitman County Library, 102 South Main St., Colfax, SG100006803

WEST VIRGINIA

Summers County

Hilltop Cemetery, Elk Knob Rd., East Hill Cir., Tomkies Ln., Hinton, SG100006824

A request for removal has been made for the following resource:

ALASKA

Lake and Peninsula Borough

Bly, Dr. Elmer, House, Hardenburg Bay, Port Alsworth, OT06000240

A request to move has been received for the following resource. In the interest of preservation, a SHORTENED comment period has been requested:

VIRGINIA

Chesapeake Independent City

Cornland School, 2309 Benefit Rd., Chesapeake, MV15000546

Additional documentation has been received for the following resource:

NORTH CAROLINA

Lee County

Downtown Sanford Historic District (Additional Documentation), Roughly bounded by South Horner Blvd., Cole St., Maple Ave., South and North First Sts., Norfolk-Southern Railway tracks, Charlotte Ave., McIver St., North Moore St., Gordon St., Sanford, AD85002561

Nominations submitted by Federal Preservation Officers:

The State Historic Preservation Officer reviewed the following nominations and responded to the Federal Preservation Officer within 45 days of receipt of the nominations and supports listing the properties in the National Register of Historic Places.

CALIFORNIA

San Bernardino County

Counsel Rocks, Address Restricted, Essex vicinity, SG100006816

Mary's Cave, Address Restricted, Essex vicinity, SG100006817

MISSOURI

St. Louis County

White Haven (Additional Documentation), Address Restricted, St. Louis vicinity, AD79003205

Authority: Section 60.13 of 36 CFR part 60.

Dated: July 13, 2021.
Sherry A. Frear,
Chief, National Register of Historic Places/National Historic Landmarks Program.

[FR Doc. 2021-15369 Filed 7-19-21; 8:45 am]

BILLING CODE 4312-52-P